POSTAL REGULATORY COMMISSION

[Docket No. MC2009-19; Order No. 449]

New Postal Products

AGENCY: Postal Regulatory Commission.

ACTION: Notice.

SUMMARY: The Commission is noticing a recently-filed Postal Service request to add postal products to the Mail Classification Schedule. This notice addresses procedural steps associated with this filing.

DATES: Comments are due: May 19, 2010.

ADDRESSES: Submit comments electronically via the Commission's Filing Online system at http://www.prc.gov. Commenters who cannot submit their views electronically should contact the person identified in the FOR FURTHER INFORMATION CONTACT section by telephone for advice on alternatives to electronic filing.

FOR FURTHER INFORMATION CONTACT: Stephen L. Sharfman, General Counsel, 202-789-6820 and stephen.sharfman@prc.gov.

SUPPLEMENTARY INFORMATION: On January 13, 2010, the Commission issued an order approving the addition of certain postal services to the Mail Classification Schedule (MCS) product lists.¹ In approving these additions, the Commission directed the Postal Service to file product descriptions for eight additional services that were being added to the Market Dominant Product List as elements of Address Management Services (AMS). Order No. 391 at 31, Ordering Paragraph 4. In addition, Order No. 391 directed the Postal Service to file an appropriate request to add Stamp Fulfillment Services (SFS) to the MCS Market Dominant Product List.² Order No. 391 at 31, Ordering Paragraph 5.

¹ Order Approving Addition of Postal Services to the Mail Classification Schedule Product Lists, January 13, 2010 (Order No. 391). See Notice of Filing of Library Reference, January 13, 2010 (Library Reference).

² At the request of the Postal Service, the deadline for the SFS filing was subsequently extended to April 30, 2010. See Order Granting Extension of Time, March 24, 2010.

As directed, the Postal Service has filed product descriptions for the eight additional elements of AMS that were being added to the Market Dominant Product List.³ The Postal Service has also filed a request to add SFS to the Market Dominant Product List.⁴

³ First Response of the United States Postal Service to Order No. 391, Amending Requested MCS Language for Address Management Services, February 23, 2010 (First Response).

⁴ Request of the United States Postal Service to Add Stamp Fulfillment Services to the Mail Classification Schedule in Response to Order No. 391, April 26, 2010 (Request). In its filing, the Postal Service states that it is filing separate requests to add charges for orders of philatelic items to the provisional Philatelic Sales nonpostal product and to add charges for personalized stamped envelopes to the Stamped Envelopes ancillary Special Services section of the Mail Classification Schedule. See Docket No. MC2009-20, Notice of the United States Postal Service of Amendment to Mail Classification Schedule Language for Nonpostal Activities Required to be Filed By Order No. 154, April 26, 2010; see also Docket No. MC2010-23, Notice of the United States Postal Service of Classification Change to Add Existing Shipping Charges to the Mail Classification Schedule Section for Stamped Envelopes, April 26, 2010.

In its First Response, the Postal Service has proposed AMS product description language based upon the Library Reference, but revised in several respects. First, language concerning one of the eight services that the Commission had directed be added to the Market Dominant Product List, Mailpiece Quality Control Certification, has been removed because the service is no longer being offered. Second, Address Management Services Prices have been edited to remove references to Cartridge pricing since this format is no longer available; to add a description of the Computerized Delivery Sequence (CDS) No Stat service to reflect the fact that the minimum price for this service is treated separately from the CDS service minimum; and to add a previously omitted price for retesting FASTforward MLOCR. Finally, the Postal Service adds information regarding two existing services or license types that were previously overlooked: 99 Percent Accurate Method and NCOALink Mail Processing Equipment.

In its Request, the Postal Service states that Stamp Fulfillment Services is an existing product and that the Request relates only to the charges for ordering stamps. Attachment A to the Request shows the proposed changes to the MCS in legislative format. Attachment B provides a statement of supporting justification for the Request. The Postal Service asserts these classification changes are consistent with the requirements of 39 U.S.C. 3642. Request at 2-3.

The Commission hereby provides notice of the Postal Service's First Response and its Request, and affords interested persons an opportunity to express views and offer comments on those filings. Comments are due May 19, 2010.

The Commission appoints Emmett Rand Costich to serve as Public Representative in this docket.

It is ordered:

1. Pursuant to 39 U.S.C. 505, Emmett Rand Costich is appointed to serve as officer of the Commission (Public Representative) to represent the interests of the general public in these proceedings.

2. Comments by interested persons in this proceeding are due no later than May 19, 2010.

3. The Secretary shall arrange for publication of this order in the Federal Register.

By the Commission.
Shoshana M. Grove,
Secretary.

[FR Doc. 2010-10362 Filed 5-3-10; 8:45 am]

BILLING CODE 7710-FW-S